ENVIRONMENTAL PROTECTION AGENCY

[ER-FRL-6679-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060233, ERP No. D-FHW-C40336-NY, Long Island Expressway (LIE) Rest Area Upgrade Project, Upgrading the Existing Rest Area from Route 1-495/Long Island Expressway between Exits 51 and 52, Funding, Suffolk County, NY

Summary: EPA does not object to the proposed project. Rating LO.

EIS No. 20060246, ERP No. D-NRC-C06016-NJ, GENERIC—License Renewal of Nuclear Plants Regarding Oyster Creek Nuclear Generating Station Supplement 28 to NUREG-1437, Located adjacent to Barnegat Bay, Lacy and Ocean Townships, Ocean County, NJ

Summary: EPA expressed environmental concerns regarding compliance with Section 316 of the Clean Water Act, impacts due to entrainment and impingement of fish and shellfish, and impacts to aquatic systems from heat shock. Rating EC2.

EIS No. 20060262, ERP No. D-SFW-K65313-CA, San Joaquin Valley Operations and Maintenance Program Habitat Conservation Plan, Application for Incidental Take Permits, San Joaquin, Stanislaus, Merced, Fresno, Kings, Kern Mariposa, Madera and Tulare Counties, CA

Summary: EPA expressed environmental concerns about impacts to listed species due to temporary disturbances and recommended the use of enhanced compensation ratios. Rating EC2.

EIS No. 20060264, ERP No. D-AFS-J65465-WY, Lower Valley Energy (LVE) Natural Gas Pipeline Project, Construction and Operation of a Pressurized Natural Gas Pipeline, Special-Use-Authorization, Big Piney and Jackson Ranger Districts, Bridger-Teton National Forest, Sublette and Teton Counties, WY

Summary: EPA expressed environmental concerns about potential adverse impacts to wetlands, vegetation, and riparian habitat in the pipeline disturbance corridor. EPA suggests that the Final EIS include additional BMPs that avoid or reduce impacts to wetlands and that controls on compressor engines or the use of electric motors be considered to reduce potential air quality impacts. Rating EC2.

EIS No. 20060272, ERP No. D-COE-E11060-NC, West Onslow Beach and New River Inlet (Topsail Beach) Shore Protection Project, Storm Damages and Beach Erosion Reduction, Funding, Pender County, NC

Summary: EPA expressed environmental concerns about the long-term consequences of the proposal to dredge sand onto the eroding shoreline of Top Sail Beach. Rating EC1.

EIS No. 20060317, ERP No. D-FHW-C40168-NY, NY Route 347 Safety and Mobility Improvement Project, from Northern State Parkway to NY Route 25A, Funding, Towns of Smithtown, Islip and Brookhaven, Suffolk County, NY

Summary: EPA does not object to the proposed project. Rating LO.

EIS No. 20060318, ERP No. D-FHW-E40810-NC, Greenville Southwest Bypass Study, Transportation Improvements to NC 11 and U.S. 264 Business, U.S. Army COE Section 404 Permit, Pitt County, NC

Summary: EPA expressed environmental concerns about high stream and wetland impacts, potential impact to a historic district, potential indirect and cumulative impacts to water quality, and socio-economic impacts to farmlands and residential relocations. Rating EC2.

EIS No. 20060270, ERP No. DA-COE-E39054-FL, Cape Sable Seaside Sparrow Protection, Interim Operation Plan (IOP), Additional Information Alternative 7, Providing Additional Flood Control Capacity, Implementation, Everglades National Park, Miami-Dade County, FL

Summary: EPA expressed environmental concerns about long-term compliance with state/federal water quality standards. Rating EC2.

Final EISs

EIS No. 20060314, ERP No. F-SFW-K39087-CA, Bair Island Restoration and Management Plan, Tidal Action Restoration, Don Edwards San Francisco Bay National Wildlife Refuge, Bair Island State Ecological Reserve, South San Francisco Bay, San Mateo County, CA

Summary: EPA does not object to the proposed action.

EIS No. 20060351, ERP No. F-FRC-G03031-00, Carthage to Perryville Project, Construction and Operation of a Natural Gas Pipeline Facilities, Center Point Energy Gas Transmission, Located in various counties and parishes in eastern Texas and northern Louisiana

Summary: No formal comment letter was sent to the preparing agency .

Dated: September 25, 2006.
Robert W. Hargrove,
Director, NEPA Compliance Division, Office of Federal Activities.

[FR Doc. E6-16056 Filed 9-28-06; 8:45 am]

BILLING CODE 6560-50-P